DEPARTMENT OF HOMELAND SECURITY

Bureau of Customs and Border Protection

Notice of Cancellation of Customs Broker Permit

AGENCY: Bureau of Customs and Border Protection, U.S. Department of Homeland Security.

ACTION: General Notice.

SUMMARY: Pursuant to section 641 of the Tariff Act of 1930, as amended, (19 U.S.C. 1641) and the Customs Regulations (19 CFR 11 1.51), the following Customs broker permits are cancelled without prejudice.

Name | Permit No. | Issuing Port
HYC Logistics, Inc. | 28-05-E69 | San Francisco.
Braverman Enterprises, Inc. | 200113 | Los Angeles.
Martin, Kassatly & Company | 13056-P | San Francisco.
Cornerstone Logistics, Inc. | 17392-P | San Francisco.
Alfredo Mesa | 52-04-B IC | Miami.
BLG, Inc. | 081 | New York.
Gallagher Transport International, Inc. | 0158 | St. Louis.
Exel Global Logistics, Inc. | 3501-01-0063 | Minneapolis.
Exel Global Logistics, Inc. | 5398-001 | Houston.
Exel Global Logistics, Inc. | 26-01-006 | Nogales.
Exel Global Logistics, Inc. | 4979-P | San Francisco.
David II Kim Dba ACE American Express | 94014 | Los Angeles.
Charter Brokerage Corp. | 53-03-U14 | Houston.
William L. Crain | 39-04-BGS | Chicago.

Dated: February 26, 2007.
Daniel Baldwin,
Assistant Commissioner, Office of International Trade.

[FR Doc. E7-4006 Filed 3-6-07; 8:45 am]

BILLING CODE 9111-14-P